DEPARTMENT OF ENERGY

Federal Energy Regulatory Commission

[Project No. 2547-095]

Village of Swanton, Vermont; Notice of Application Accepted for Filing, Soliciting Motions To Intervene and Protests, Ready for Environmental Analysis, and Soliciting Comments, Recommendations, Terms and Conditions, and Prescriptions

Take notice that the following hydroelectric application has been filed with the Commission and is available for public inspection.

a. Type of Application: New License.

b. Project No.: 2547-095.

c. Date Filed: April 29, 2022.

d. Applicant: Village of Swanton, Vermont (Village).

e. Name of Project: Highgate Falls Hydroelectric Project.

f. Location: On the Missisquoi River in Franklin County, Vermont.

g. Filed Pursuant to: Federal Power Act, 16 U.S.C. 791(a)-825(r).

h. Applicant Contact: Paul V. Nolan, Energy Consultant, 5515 17th Street North, Arlington, VA 22205; telephone at (703) 534-5509; email at pvnpvndiver@gmail.com.

i. FERC Contact: Arash Barsari, Project Coordinator, Great Lakes Branch, Division of Hydropower Licensing; telephone at (202) 502-6207; email at Arash.JalaliBarsari@ferc.gov.

j. Deadline for filing motions to intervene, protests, comments, recommendations, terms, conditions, and prescriptions: November 7, 2025 by 5:00 p.m. Eastern Time. Deadline for filing reply comments: December 22, 2025 by 5:00 p.m. Eastern Time.

The Commission strongly encourages electronic filing. Please file motions to intervene, protests, comments, recommendations, terms, conditions, and prescriptions using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Highgate Falls Hydroelectric Project (P-2547-095).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The project consists of a 496-foot-long, 45-foot-high dam that includes a 42-foot-long intake structure with trashracks with 1.62-inch clear bar spacing and a 226-foot-long ogee spillway with a 15-foot-high inflatable rubber crest gate with a maximum crest elevation of 190.0-foot National Geodetic Vertical Datum of 1929 (NGVD 29).

The dam creates an impoundment that has a surface area of 262 acres at a normal maximum surface elevation of 190.0 feet NGVD 29. From the impoundment, water flows through the intake structure to a conduit that connects to a penstock. The penstock conveys water to a primary powerhouse that contains two 1.0-megawatt (MW), one 2.8-MW, and one 6.0-MW vertical Francis turbine-generator units, for a total installed capacity of 10.8 MW. Water is discharged from the primary powerhouse directly to the Missisquoi River. The project creates an approximately 1,100-foot-long bypassed reach of the Missisquoi River.

From the impoundment, water also flows through the intake structure to a penstock that conveys water to a secondary powerhouse that contains a 0.572-MW crossflow turbine-generator unit. Water is discharged from the secondary powerhouse to a receiving pool that discharges to the Missisquoi River immediately downstream of the dam.

The project generators are connected to the regional electric grid by generator lead lines and a 12.47/48-kV step-up transformer. There are no project recreation facilities.

Based on the Commission staff's review of the Exhibit G maps and georeferenced shapefiles, the Village proposes to modify the project boundary as follows: (1) revise the project boundary around the impoundment to follow a contour elevation of 190.0 feet NGVD 29, which would result in the removal of approximately 111 acres from the current project boundary; (2) remove approximately 2.2 acres of land adjacent to the south bank of the bypassed reach; and (3) remove approximately 1.8 acres of land adjacent to the north bank of the bypassed reach.

The Village proposes to: (1) operate the project in run-of-river mode with a 3-inch impoundment fluctuation between March 31 and June 15, and during periods when inflow is 400 cfs or less, instead of between March 31 and June 1 under current operation; (2) operate the project in a peaking mode from June 16 through March 30, with a maximum impoundment drawdown of 24 inches, instead of 30 inches under current operation; (3) refill the impoundment within 8 hours of each drawdown for peaking operation; (4) continue to provide a minimum flow of 200 cfs or inflow, whichever is less, downstream of the primary powerhouse, including the following minimum flows to the bypassed reach: 150 cfs from April 1 through May 31, 70 cfs from June 1 through June 30, and 35 cfs from July 1 through March 31; (5) develop a freshwater mussel plan for (a) relocating mussels during impoundment drawdowns and (b) conducting mussel surveys for state-list species in the project area every 5 years; (6) develop a plan for protecting horn-leaved riverweed downstream of the Swanton Dam ledges, which are located approximately 7 miles downstream of the powerhouse; (7) provide aesthetic flows of 1 to 3 inches of spill over the dam during certain holidays; (8) improve an existing parking area to accommodate 5 to 7 cars for recreation users; (9) develop a plan to improve access for hand-carry water craft to the impoundment and downstream of the project; (10) develop a historic properties management plan to protect historic properties; (11) conduct a post-licensing evaluation of the feasibility of using the existing downstream Swanton Dam canal works for upstream fish passage; (12) develop a recreational maintenance and enhancement plan; (13) install a warning system to alert recreation users to increases in flow in the bypassed reach and downstream of the powerhouse; and (14) install an electric vehicle charging station for 5 vehicles.

m. A copy of the application can be viewed on the Commission's website at http://www.ferc.gov using the “eLibrary” link. Enter the docket number excluding the last three digits in the docket number field to access the document (P-2547). For assistance, contact FERC Online Support.

You may also register online at https://ferconline.ferc.gov/FERCOnline.aspx to be notified via email of new filings and issuances related to this or other pending projects. For assistance, please contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST,” “MOTION TO INTERVENE,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed on the service list prepared by the Commission in this proceeding, in accordance with 18 CFR 4.34(b) and 385.2010.

The Commission's Office of Public Participation (OPP) supports meaningful public engagement and participation in Commission proceedings. OPP can help members of the public, including landowners, community organizations, Tribal members, and others access publicly available information and navigate Commission processes. For public inquiries and assistance with making filings such as interventions, comments, or requests for rehearing, the public is encouraged to contact OPP at (202) 502-6595 or OPP@ferc.gov.

o. The applicant must file on or before 5:00 p.m. Eastern Time on November 7, 2025: (1) a copy of the water quality certification; (2) a copy of the request for certification, including proof of the date on which the certifying agency received the request; or (3) evidence of waiver of water quality certification.

p. Procedural Schedule: The application will be processed according to the following schedule. Revisions to the schedule will be made as appropriate.

Milestone | Target date
Filing of Motions to Intervene, Protests, Comments, Recommendations, Terms, Conditions, and Prescriptions | November 2025.
Filing of Reply Comments | December 2025.

q. Final amendments to the application must be filed with the Commission on or before 5:00 p.m. Eastern Time on October 8, 2025.

Dated: September 8, 2025.
Debbie-Anne A. Reese,
Secretary.

[FR Doc. 2025-17575 Filed 9-10-25; 8:45 am]

BILLING CODE 6717-01-P